DEPARTMENT OF ENERGY

Federal Energy Regulatory Commission

Combined Notice of Filings #1

Take notice that the Commission received the following electric rate filings:

Docket Numbers: ER22-1378-001.

Applicants: Golden Spread Electric Cooperative, Inc.

Description: Tariff Amendment: WPC Sched B Rider H Filing—OEMR response to be effective 9/1/2022.

Filed Date: 8/5/22.

Accession Number: 20220805-5064.

Comment Date: 5 p.m. ET 8/26/22.

Docket Numbers: ER22-1869-001.

Applicants: Bishop Hill Energy LLC.

Description: Tariff Amendment: Response to Deficiency Letter in Docket ER22-1869-000 to be effective 5/14/2022.

Filed Date: 8/5/22.

Accession Number: 20220805-5012.

Comment Date: 5 p.m. ET 8/26/22.

Docket Numbers: ER22-2117-001.

Applicants: Midcontinent Independent System Operator, Inc.

Description: Tariff Amendment: 2022-08-05_SA 3454 Entergy Arkansas-Flat Fork Solar Sub 1st Rev GIA (J907 J1434) to be effective 6/2/2022.

Filed Date: 8/5/22.

Accession Number: 20220805-5027.

Comment Date: 5 p.m. ET 8/26/22.

Docket Numbers: ER22-2604-000.

Applicants: Lucky Corridor, LLC.

Description: Baseline eTariff Filing: Filing of Lucky Corridor OATT to be effective 10/5/2022.

Filed Date: 8/5/22.

Accession Number: 20220805-5009.

Comment Date: 5 p.m. ET 8/26/22.

Docket Numbers: ER22-2605-000.

Applicants: New York Independent System Operator, Inc.

Description: § 205(d) Rate Filing: Section 205 EPC Agreement among NYISO, KCE, Niagara, Erie, National Grid SA.2723 to be effective 7/22/2022.

Filed Date: 8/5/22.

Accession Number: 20220805-5011.

Comment Date: 5 p.m. ET 8/26/22.

Docket Numbers: ER22-2606-000.

Applicants: Tri-State Generation and Transmission Association, Inc.

Description: § 205(d) Rate Filing: Amendment to Rate Schedule FERC No. 20 to be effective 10/4/2022.

Filed Date: 8/5/22.

Accession Number: 20220805-5015.

Comment Date: 5 p.m. ET 8/26/22.

Docket Numbers: ER22-2607-000.

Applicants: Tri-State Generation and Transmission Association, Inc.

Description: § 205(d) Rate Filing: Amendment to Rate Schedule No. 2 to be effective 10/4/2022.

Filed Date: 8/5/22.

Accession Number: 20220805-5020.

Comment Date: 5 p.m. ET 8/26/22.

Docket Numbers: ER22-2608-000.

Applicants: MATL LLP.

Description: Request for continued Negotiated Rate Authorization for MATL LLP.

Filed Date: 8/2/22.

Accession Number: 20220802-5179.

Comment Date: 5 p.m. ET 8/23/22.

Docket Numbers: ER22-2609-000.

Applicants: Midcontinent Independent System Operator, Inc.

Description: § 205(d) Rate Filing: 2022-08-05_SA 3413 Ameren IL-Cass County Solar Project 2nd Rev GIA (J859) to be effective 7/22/2022.

Filed Date: 8/5/22.

Accession Number: 20220805-5022.

Comment Date: 5 p.m. ET 8/26/22.

Docket Numbers: ER22-2610-000.

Applicants: The Potomac Edison Company, PJM Interconnection, L.L.C.

Description: § 205(d) Rate Filing: The Potomac Edison Company submits tariff filing per 35.13(a)(2)(iii: Potomac Edison submits two ECSAs, SA Nos. 6349 and 6350 to be effective 10/5/2022.

Filed Date: 8/5/22.

Accession Number: 20220805-5033.

Comment Date: 5 p.m. ET 8/26/22.

Docket Numbers: ER22-2611-000.

Applicants: Southwest Power Pool, Inc.

Description: § 205(d) Rate Filing: 3125R12 Basin Electric Power Cooperative NITSA and NOA to be effective 8/1/2022.

Filed Date: 8/5/22.

Accession Number: 20220805-5042.

Comment Date: 5 p.m. ET 8/26/22.

Docket Numbers: ER22-2612-000.

Applicants: California Independent System Operator Corporation.

Description: § 205(d) Rate Filing: 2022-08-05 Transmission Control Agreement Removing Vernon as PTO to be effective 10/7/2022.

Filed Date: 8/5/22.

Accession Number: 20220805-5059.

Comment Date: 5 p.m. ET 8/26/22.

Docket Numbers: ER22-2613-000.

Applicants: Arizona Public Service Company.

Description: § 205(d) Rate Filing: Service Agreement No. 362-City of Williams NITS, Amendment No. 2 to be effective 10/5/2022.

Filed Date: 8/5/22.

Accession Number: 20220805-5061.

Comment Date: 5 p.m. ET 8/26/22.

Docket Numbers: ER22-2614-000.

Applicants: Southern California Edison Company.

Description: Tariff Amendment: Cancel LA, Desert Sunlight PV (SA282, TOT198-199) to be effective 10/5/2022.

Filed Date: 8/5/22.

Accession Number: 20220805-5070.

Comment Date: 5 p.m. ET 8/26/22.

Docket Numbers: ER22-2615-000.

Applicants: Tri-State Generation and Transmission Association, Inc.

Description: § 205(d) Rate Filing: Initial Filing of Rate Schedule FERC No. 345 to be effective 7/13/2022.

Filed Date: 8/5/22.

Accession Number: 20220805-5073.

Comment Date: 5 p.m. ET 8/26/22.

Docket Numbers: ER22-2616-000.

Applicants: Southern California Edison Company.

Description: § 205(d) Rate Filing: Second Amendment to LGIA, Desert Sunlight (TOT198-199, SA86) to be effective 10/5/2022.

Filed Date: 8/5/22.

Accession Number: 20220805-5088.

Comment Date: 5 p.m. ET 8/26/22.

Docket Numbers: ER22-2617-000.

Applicants: PJM Interconnection, L.L.C.

Description: § 205(d) Rate Filing: ISA, SA No. 6552; Queue Nos. AE2-318/AF1-045 to be effective 7/7/2022.

Filed Date: 8/5/22.

Accession Number: 20220805-5095.

Comment Date: 5 p.m. ET 8/26/22.

Take notice that the Commission received the following qualifying facility filings:

Docket Numbers: QF22-826-000.

Applicants: President and Fellows of Harvard College.

Description: Form 556 of President and Fellows of Harvard College [Harvard Allston District Energy Facility].

Filed Date: 8/5/22.

Accession Number: 20220805-5109.

Comment Date: 5 p.m. ET 8/26/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2022.
Kimberly D. Bose,
Secretary.

[FR Doc. 2022-17260 Filed 8-10-22; 8:45 am]

BILLING CODE 6717-01-P